DEPARTMENT OF AGRICULTURE

Submission for OMB Review; Notice of Request for Emergency Approval

February 22, 2022.

In compliance with the requirements of the Paperwork Reduction Act of 1995 (PRA), the Department of Agriculture (USDA) has submitted a request to the Office of Management and Budget (OMB) for a six-month emergency approval of the following information collection: ICR 0596-NEW, Wildland Fire Mitigation and Management Commission Nomination. The requested approval would enable the implementation of this Commission to collect the necessary information needed to brief to Congress on future wild fire mitigation and management plans and techniques.

Forest Service

Title: Wildland Fire Mitigation and Management Commission Nomination.

OMB Control Number: 0596-NEW.

Summary of Collection: The Forest Service (FS) is requesting emergency clearance and review through 5 CFR 1320.13 for a new information collection for the Wildland Fire Mitigation and Management Commission Nomination. The United States Department of Agriculture (USDA), United States Department of Interior (DOI) and Federal Emergency Management Agency (FEMA) collaboratively established the Wildland Fire Mitigation and Management Commission in December 2021 as part of the Bipartisan Infrastructure Law.

Levi S. Harrell,
Departmental Information Collection Clearance Officer.

[FR Doc. 2022-04099 Filed 2-25-22; 8:45 am]

BILLING CODE 3411-15-P